FEDERAL COMMUNICATIONS COMMISSION

Notice of Public Information Collection(s) Being Reviewed by the Federal Communications Commission for Extension Under Delegated Authority, Comments Requested

November 15, 2002.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by January 28, 2003. If you anticipate that you will be submitting comments, but find it difficult to do so within the period of time allowed by this notice, you should advise the contact listed below as soon as possible.

ADDRESSES: Direct all comments to Judy Boley Herman, Federal Communications Commission, 445 12th Street, SW., Room 1-C804, Washington, DC 20554 or via the internet to jboley@fcc.gov.

FOR FURTHER INFORMATION CONTACT: For additional information or copies of the information collections contact Judy Boley Herman at 202-418-0214 or via the internet at jboley@fcc.gov.

SUPPLEMENTARY INFORMATION: OMB Control No.: 3060-0242.

Title: Section 74.604, Interference Avoidance.

Form No.: N/A.

Type of Review: Extension of a currently approved collection.

Respondents: Business or other for profit.

Number of Respondents: 1.

Estimated Time Per Response: 2 hours.

Frequency of Response: On occasion reporting requirement.

Total Annual Burden: 2 hours.

Annual Reporting and Recordkeeping Cost Burden: $1,000.

Needs and Uses: Section 74.604 requires that the Commission be notified if a mutual agreement to avoid interference cannot be reached by licensees assigned a common channel for TV pickup, TV studio transmitter link or TV relay purposes in the same area. Data used by FCC staff to take such action as may be necessary to assure equitable distribution of available frequencies.

OMB Control No.: 3060-0347.

Title: Section 97.311, Spread Spectrum (SS) Emission Types.

Form No.: N/A.

Type of Review: Extension of a currently approved collection.

Respondents: Individuals or households.

Number of Respondents: 10.

Estimated Time Per Response: .017 hours (1 minute).

Frequency of Response: Recordkeeping requirement.

Total Annual Burden: 1 hour.

Annual Reporting and Recordkeeping Cost Burden: N/A.

Needs and Uses: The recordkeeping requirement contained in § 97.311 is necessary to document all spread spectrum (ss) transmissions by amateur radio operators. This requirement is necessary so that quick resolution of any harmful interference problems can be achieved and to ensure that the station is operating in accordance with the Communications Act of 1934, as amended. The information is used by FCC staff during inspection and investigations to ensure compliance with applicable rules, statutes and treaties. In the absence of this recordkeeping requirement, field inspections and investigations related to the solution of cases of harmful interference would be severely hampered and needlessly prolonged due to the inability to quickly obtain vital information used to demodulate spread spectrum transmissions.

OMB Control No.: 3060-0648.

Title: Section 21.902, Frequency Interference.

Form No.: N/A.

Type of Review: Extension of a currently approved collection.

Respondents: Business or other for profit.

Number of Respondents: 1,824.

Estimated Time Per Response: .25-1.5 hours.

Frequency of Response: On occasion reporting requirement, third party disclosure requirement.

Total Annual Burden: 456 hours.

Annual Reporting and Recordkeeping Cost Burden: $491,000.

Needs and Uses: Section 21.902(b)(5) requires that respondents engineer the Multipoint Distribution Service (MDS) station to limit the calculated free space power flux density at the boundary of the protected service area (PSA). As an alternative, the respondent may obtain the written consent of the entity authorized for the adjoining area when the calculated free space power flux density exceeds the standards. Section 21.902(g)(2) requires applicants with 35 miles PSA to notify in writing the holders of authorizations for adjoining basic trading areas (BTAs) or PSAs of application filings for modified station licenses, provided the proposed facility would produce an unobstructed signal path to any location within the adjoining BTA or PSA. This service must include a copy of the application and occur on or before the date the application is filed with the Commission. Section 21.902(i) requires each applicant for a new station or modified MDS station, or amendment thereof, to provide notice of its application to co-channel and adjacent-channel authorized ITFS stations within 50 miles. The ITFS study must be prepared and served on the affected ITFS station, but is not required to be filed as part of the MDS application. Each applicant is required to file a written notice with the Commission before the 30th day after the applicant or amendment is initially filed with the Commission. This notice must contain the items specified in § 21.902(i)(4). Section 21.902(i)(6) requires that a petition to deny filed by an ITFS licensee contain specific information.

The data are used to ensure that no harmful interference is caused to other authorized stations.

Federal Communications Commission.
Marlene H. Dortch,
Secretary.

[FR Doc. 02-30166 Filed 11-27-02; 8:45 am]

BILLING CODE 6712-01-P